DEPARTMENT OF HOMELAND SECURITY

Federal Emergency Management Agency

[Docket ID: FEMA-2011-0013; OMB No. 1660-0106]

Agency Information Collection Activities: Submission for OMB Review; Comment Request, Integrated Public Alert and Warning Systems (IPAWS) Inventory

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 30, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION: Presidential Executive Order 13407 establishes the policy for an effective, reliable, integrated, flexible, and comprehensive system to alert and warn the American people in situations of war, terrorist attack, natural disaster, or other hazards to public safety and well-being. The Executive Order requires that DHS establish an inventory of public alert and warning resources, capabilities, and the degree of integration at the Federal, State, territorial, Tribal, and local levels of government. The Integrated Public Alert and Warning System (IPAWS) implements the requirements of the Executive Order. The information collected has, and will continue to consist of the public alert and warning systems, as well as the communication systems being used for collaboration and situational awareness at the Local Emergency Operations Center (EOC) level and higher. This information will help FEMA identify the technologies currently in use or desired for inclusion into IPAWS.

Collection of Information

Title: Integrated Public Alert and Warning Systems (IPAWS) Inventory.

Type of Information Collection: Revision of a currently approved information collection.

OMB Number: 1660-0106.

Form Titles and Numbers: FEMA Form 142-1-1, IPAWS Inventory.

Abstract: FEMA will be conducting an inventory, evaluation and assessment of the capabilities of Federal, State, territorial, Tribal, and local government alert and warning systems. The IPAWS Inventory and Evaluation Survey collects data that will facilitate the integration of public alert and warning systems. It also reduces Federal planning costs by leveraging existing State systems.

Affected Public: State, local, territorial, and Tribal Government.

Estimated Number of Respondents: 1,932.

Frequency of Response: Once.

Estimated Average Hour Burden per Respondent: 3 hours.

Estimated Total Annual Burden Hours: 5,796 hours.

Estimated Cost: There are no annual start-up or capital costs.

Lesia M. Banks,
Director, Records Management Division, Mission Support Bureau, Federal Emergency Management Agency, Department of Homeland Security.

[FR Doc. 2011-22249 Filed 8-30-11; 8:45 am]

BILLING CODE 9110-14-P